DEPARTMENT OF THE INTERIOR

Bureau of Indian Affairs

Renewal of Agency Information Collection for Loan Guarantee, Insurance, and Interest Subsidy Program; Request for Comments

AGENCY: Bureau of Indian Affairs, Interior.

ACTION: Notice of Submission to the Office of Management and Budget.

SUMMARY: As required by the Paperwork Reduction Act, the Department of the Interior (DOI), Office of Indian Energy and Economic Development (IEED), is submitting the information collection for the Loan Guarantee, Insurance, and Interest Subsidy Program to the Office of Management and Budget (OMB) for revision. The information collection is currently authorized by OMB Control Number 1076-0020, which expires April 30, 2010. The information collection allows IEED to ensure compliance with Program requirements and includes the use of several forms.

DATES: Interested persons are invited to submit comments on or before June 1, 2010.

ADDRESSES: You may submit comments on the information collection to the Desk Officer for Department of the Interior at the Office of Management and Budget, by facsimile to (202) 395-5806 or you may send an e-mail to: OIRA_DOCKET@omb.eop.gov. Please send a copy of your comments to Molly Kubiak, Office of Indian Energy and Economic Development, U.S. Department of the Interior, 1951 Constitution Ave., NW., Mail Stop 20-SIB, Washington, DC 20245; facsimile: (202) 208-4564; or e-mail: molly.kubiak@bia.gov.

FOR FURTHER INFORMATION CONTACT: Molly Kubiak, (202) 208-0121.

SUPPLEMENTARY INFORMATION:

I. Abstract

The IEED is seeking revision and renewal of the approval for the information collection conducted under 25 CFR 103, implementing the Loan Guarantee, Insurance, and Interest Subsidy Program, established by 25 U.S.C 1451 et seq. The information collection allows IEED to determine the eligibility and credit-worthiness of respondents and loans and otherwise ensure compliance with Program requirements. This information collection includes the use of several forms. The forms have been revised to reflect the current organization of the program office as being within the Office of the Assistant Secretary—Indian Affairs, rather than within the Bureau of Indian Affairs, and to change the form numbers. The following chart shows the new form numbers.

Previous Form No. | New Form No. | Form name
5-4753 | LGA10 | Loan Guarantee Agreement.
5-4754 | LIA10 | Loan Insurance Agreement.
5-4754a | NIL10 | Notice of Insured Loan.
5-4755 | RLG10 | Request to the Department of the Interior for Loan Guarantee, Loan Insurance, or Interest Subsidy.
5-4749 | ISR10 | Indian Affairs Interest Subsidy Report.
5-4759 | ALD10 | Assignment of Loan Documents and Related Rights.
5-4760a | NOD10 | Notice of Default.
5-4760b | CFL10 | Claim for Loss.

Material changes were made to the Loan Guarantee Agreement form, LGA10, to reflect the program change increasing the threshold amounts from $1,000,000 to $2,000,000 in average outstanding balance and minimum outstanding balance to obtain “preferred lender” and “performance lender” designations. The Department also updated both its Loan Guarantee Agreement form and Loan Insurance Agreement form to increase the timeframe in which closing must occur following issuance of a loan guarantee certificate from 60 to 90 days and to add provisions that will allow the Department to publicize successful financing projects.

The Department has also adjusted its burden hour estimates based on past experience with the program, refining the number of applications it expects to receive and the time it takes to complete them.

II. Request for Comments

The Department requests that you send your comments on this collection to the location listed in the ADDRESSES section. Your comments should address: (a) The necessity of the information collection for the proper performance of the agencies, including whether the information will have practical utility; (b) the accuracy of our estimate of the burden (hours and cost) of the collection of information, including the validity of the methodology and assumptions used; (c) ways we could enhance the quality, utility and clarity of the information to be collected; and (d) ways we could minimize the burden of the collection of the information on the respondents, such as through the use of automated collection techniques or other forms of information technology.

Please note that an agency may not sponsor or conduct, and an individual need not respond to, a collection of information unless it has a valid OMB Control Number.

It is our policy to make all comments available to the public for review at the Office of Indian Energy and Economic Development, U.S. Department of the Interior, 1951 Constitution Ave., NW., Mail Stop 20-SIB, Washington, DC 20245 during the hours of 9 a.m.-5 p.m., Eastern Time, Monday through Friday except for legal holidays. Before including your address, phone number, e-mail address or other personally identifiable information, be advised that your entire comment—including your personally identifiable information—may be made public at any time. While you may request that we withhold your personally identifiable information, we cannot guarantee that we will be able to do so.

The OMB has up to 60 days to make a decision on the submission for renewal, but may make the decision after 30 days. Therefore, to receive the best consideration of your comments, you should submit them closer to 30 days than 60 days.

III. Data

OMB Control Number: 1076-0020.

Title: Loan Guarantee, Insurance, and Interest Subsidy, 25 CFR 103.

Brief Description of Collection: Submission of this information allows IEED to implement the Loan Guarantee, Insurance, and Interest Subsidy Program, 25 U.S.C. 1451 et seq., the purpose of which is to encourage private lending to individual Indians and Indian organizations by providing lenders with loan guarantees or loan insurance to reduce their potential risk. The information collection allows IEED to determine the eligibility and credit-worthiness of respondents and loans and otherwise ensure compliance with Program requirements. This information collection includes the use of several forms. Response is required to obtain a benefit.

Type of Review: Revision of a currently approved collection.

Respondents: Lenders, including commercial banks, and borrowers, including individual Indians and Indian organizations.

Number of Respondents: 295.

Total Number of Responses: 1,357.

Frequency of Response: As needed.

Estimated Time per Response: Ranging from 0.5 to 2 hours.

Estimated Total Annual Burden: 2,644 hours.

Dated: April 20, 2010.
Alvin Foster,
Acting Chief Information Officer—Indian Affairs.

[FR Doc. 2010-9883 Filed 4-28-10; 8:45 am]

BILLING CODE 4310-4J-P